DEPARTMENT OF ENERGY

Federal Energy Regulatory Commission

[Docket No. PF14-10-000]

Transcontinental Gas Pipe Line Company, LLC; Supplemental Notice of Intent to Prepare an Environmental Assessment for the Planned Dalton Expansion Project, Request for Comments on Environmental Issues Related to a New Route Variation Under Consideration, and Notice of Public Scoping Meeting

In response to concerns raised about the Dalton Expansion Project planned by the Transcontinental Gas Pipe Line Company, LLC, (Transco), a new route variation is being considered. The Georgia Department of Natural Resources—Wildlife Resources Division, the U.S. Fish and Wildlife Service, and the Nature Conservancy requested a route variation in northern Paulding County, Georgia. Transco reviewed the requested variation and incorporated some changes for engineering and other considerations. The variation, referred to herein as the Raccoon Creek Watershed Variation (Transco Major Route Alternative H), is being considered to avoid and minimize potential environmental impacts on the biologically sensitive Raccoon Creek Watershed.

This variation, which is described in further detail below, would affect new landowners; therefore, the Federal Energy Regulatory Commission (FERC or Commission) is issuing this supplemental notice (Notice) to provide these new landowners and other interested parties an opportunity to comment on the merits of the route variation.

The FERC is the lead federal agency responsible for conducting the environmental review of the Dalton Expansion Project (Project). The Commission's staff will prepare an environmental assessment (EA) that discusses the environmental impacts of the Project. This EA will be used to inform the Commission as it determines whether the Project is in the public convenience and necessity.

This Notice announces the opening of an additional scoping period the Commission will use to gather input from the public and interested agencies. Specifically, we are requesting comments on the Raccoon Creek Watershed Variation. Please note that comments on this Notice should be filed with the Commission by March 16, 2015.

Comments on the route variation may be submitted in writing as described in the public participation section of this notice. In lieu of, or in addition to, submitting written comments, you are invited to attend a public scoping meeting on March 4, 2015 at the Dallas Civic Center in Dallas, Georgia.

Date and time | Location
March 4, 2015, 7:00 p.m. EST | Dallas Civic Center, 121 E Griffin Street, Dallas, GA 30132, (770) 445-5180.

You have been identified as a landowner or an interested party that may be affected by the Raccoon Creek Watershed Variation or by the corresponding segment of the currently planned route. Information in this notice was prepared to familiarize you with this new route variation, the Project as a whole, the Commission's environmental review process, and instruct you on how to submit comments about the route variation under consideration. This notice is also being sent to federal, state, and local government agencies; elected officials; environmental and public interest groups; Native American tribes; other interested parties; and local libraries and newspapers. State and local government representatives should notify their constituents of this proposed route variation and encourage them to comment on their areas of concern.

If you are a landowner receiving this Notice, a pipeline company representative may have already contacted you or may contact you soon about surveys associated with the Raccoon Creek Watershed Variation. If the company ultimately decides to incorporate this route variation it would contact you again to acquire an easement to construct, operate, and maintain the pipeline. The company would seek to negotiate a mutually acceptable agreement. However, if the Commission approves the Project and the route variation, that approval conveys with it the right of eminent domain. Therefore, if easement negotiations fail to produce an agreement, the pipeline company could initiate condemnation proceedings where compensation would be determined in accordance with state law.

To help potentially affected landowners and other interested parties better understand the Commission and its environmental review process, the “For Citizens” section of the FERC Web site (www.ferc.gov) provides information about getting involved in FERC jurisdictional projects. A citizens' guide entitled “An Interstate Natural Gas Facility On My Land? What Do I Need to Know?” is also available in this section of the Commission's Web site. This guide addresses a number of frequently asked questions, including the use of eminent domain and how to participate in the Commission's proceedings.

Dalton Expansion Project

Transco plans to construct and operate about 111 miles of new natural gas pipeline and associated facilities in Coweta, Carroll, Douglas, Paulding, Bartow, Gordon, and Murray Counties, Georgia and a new compressor station in Carroll County, Georgia. Additionally, Transco plans to modify existing facilities along its mainline transmission system in Maryland, Virginia, and North Carolina to accommodate bidirectional flow. Transco has indicated that the Project would provide 448,000 dekatherms per day of incremental firm transportation service to markets in northwest Georgia.

Summary of the Raccoon Creek Watershed Variation

As stated previously, the Raccoon Creek Watershed Variation was created to avoid and minimize potential environmental impacts on the biologically sensitive Raccoon Creek Watershed. The Raccoon Creek Watershed covers about 35,000 acres, includes several high priority streams, significant wetlands, and provides habitat for numerous federally-listed threatened and endangered species. The route variation would originate at approximately milepost (MP) 44 of the planned route in northern Paulding County. The variation would extend in a northeasterly direction for approximately 9.0 miles before joining an existing utility easement and then extending northwest for another 1.5 miles, rejoining the planned route at approximately MP 53 near the Paulding and Bartow County line.

The general location of the Project facilities and the Raccoon Creek Watershed Variation are shown in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

The EA Process

The National Environmental Policy Act (NEPA) requires the Commission to take into account the environmental impacts that could result from an action whenever it considers the issuance of a Certificate of Public Convenience and Necessity. NEPA also requires us ² to discover and address concerns the public may have about proposals. This process is referred to as scoping. The main goal of the scoping process is to focus the analysis in the EA on the important environmental issues. By this notice, the Commission requests public comments on the scope of the issues to address in the EA. We will consider all filed comments during the preparation of the EA.

² “We,” “us,” and “our” refer to the environmental staff of the Commission's Office of Energy Projects.

In the EA we will discuss impacts that could occur as a result of the construction and operation of the Project under these general headings:

• Geology and soils;

• water resources, fisheries, and wetlands;

• vegetation and wildlife;

• endangered and threatened species;

• land use;

• socioeconomics;

• cultural resources;

• air quality and noise; and

• public safety.

We will also evaluate possible alternatives to the Project or portions of the Project, and make recommendations on how to lessen or avoid impacts on the various resource areas.

Although no formal application has been filed, we began our NEPA review under the Commission's pre-filing process on April 25, 2014. The purpose of the pre-filing process is to encourage the early involvement of interested stakeholders and to identify and resolve issues before the FERC receives an application. As part of our pre-filing review, we contacted federal and state agencies to discuss preparation of the EA. During the process, the Raccoon Creek Watershed Variation was proposed. Transco will provide additional environmental data to present the potential impacts of the variation at a later date.

The EA will present our independent analysis of the issues. The EA will be available in the public record through eLibrary. We will also publish and distribute the EA to the public for an allotted comment period. We will consider all comments on the EA before we make our recommendations to the Commission. To ensure we have the opportunity to consider and address your comments, please carefully follow the instructions in the Public Participation section of this notice.

Consultations Under Section 106 of the National Historic Preservation Act

In accordance with the Advisory Council on Historic Preservation's implementing regulations for section 106 of the National Historic Preservation Act, we are using this notice to initiate consultation with the applicable State Historic Preservation Office(s), and to solicit their views and those of other government agencies, interested Indian tribes, and the public on the Project's potential effects on historic properties.³ We will define the Project-specific Area of Potential Effects (APE) in consultation with the SHPO as the Project develops. On natural gas facility projects, the APE at a minimum encompasses all areas subject to ground disturbance (examples include construction right-of-way, contractor/pipe storage yards, compressor stations, and access roads). Our EA for this Project will document our findings on the impacts on historic properties and summarize the status of consultations under section 106.

³ The Advisory Council on Historic Preservation regulations are at Title 36, Code of Federal Regulations, Part 800. Those regulations define historic properties as any prehistoric or historic district, site, building, structure, or object included in or eligible for inclusion in the National Register of Historic Places.

Public Participation

You can make a difference by providing us with your specific comments or concerns about the Project. Your comments should focus on the potential environmental effects, reasonable alternatives, and measures to avoid or lessen environmental impacts. The more specific your comments, the more useful they will be. To ensure that your comments are timely and properly recorded, please send your comments so that the Commission receives them in Washington, DC on or before March 16, 2015.

For your convenience, there are three methods you can use to submit your comments to the Commission. In all instances, please reference the Project docket number (PF14-10-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the planned Project.

Copies of the EA will be sent to the environmental mailing list for public review and comment. If you would prefer to receive a paper copy of the document instead of the CD version or would like to remove your name from the mailing list, please return the attached Information Request (appendix 2).

Becoming an Intervenor

Once Transco files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the Project.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF14-10). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: February 13, 2015.
Nathaniel J. Davis, Sr.,
Deputy Secretary.

[FR Doc. 2015-03648 Filed 2-23-15; 8:45 am]

BILLING CODE 6717-01-P